DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of five persons that have been placed on OFAC's Specially Designated Nationals and Blocked Persons List based on OFAC's determination that one or more applicable legal criteria were satisfied. All property and interests in property subject to U.S. jurisdiction of these persons are blocked, and U.S. persons are generally prohibited from engaging in transactions with them. Additionally, OFAC is publishing an update to the identifying information of an entity currently on the Specially Designated Nationals and Blocked Persons List.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On April 24, 2019, OFAC determined that the property and interests in property subject to U.S. jurisdiction of the following five persons are blocked under the relevant sanctions authorities listed below.

Individuals

1. TABAJA, Hassan (a.k.a. TABAJA, Hasan; a.k.a. TABAJA, Hasan Husayn; a.k.a. TABAJA, Hassan Hussain), Lebanon; DOB 08 Oct 1971; POB Chiah, Lebanon; Additional Sanctions Information—Subject to Secondary Sanctions Pursuant to the Hizballah Financial Sanctions Regulations; Gender Male; Passport RL 0913767 (Lebanon); Identification Number 371923 (Lebanon); Residency Number 62270869 (United Arab Emirates) (individual) [SDGT] (Linked To: TABAJA, Adham Husayn).

Designated pursuant to section 1(c) of Executive Order 13224 of September 23, 2001, “Blocking Property and Prohibiting Transactions With Persons Who Commit, Threaten to Commit, or Support Terrorism” (E.O. 13224) for acting for or on behalf of TABAJA, Adham Husayn, an individual whose property and interests in property are blocked pursuant to E.O. 13224.

2. BAZZI, Wael (a.k.a. BAZZI, Wa'el; a.k.a. BAZZI, Wa'il Muhammad), Eglantierlaan 15, Antwerpen 2020, Belgium; DOB 01 Oct 1989 to 31 Oct 1989; alt. DOB 31 Oct 1989; POB Freetown, Sierra Leone; nationality Belgium; Additional Sanctions Information—Subject to Secondary Sanctions Pursuant to the Hizballah Financial Sanctions Regulations; Gender Male; Passport EN312261 (Belgium); National ID No. 89103150321 (individual) [SDGT] (Linked To: BAZZI, Mohammad Ibrahim).

Designated pursuant to section 1(c) of E.O.13224 for acting for or on behalf BAZZI, Mohammad Ibrahim, an individual whose property and interests in property are blocked pursuant to E.O. 13224.

Entities

1. BSQRD LIMITED, Mansion House Manchester Road, Altrincham Cheshire WA14 4RW, United Kingdom; Additional Sanctions Information—Subject to Secondary Sanctions Pursuant to the Hizballah Financial Sanctions Regulations; D-U-N-S Number 22-369-0096; Company Number 11207847 (United Kingdom) [SDGT] (Linked To: BAZZI, Wael).

Designated pursuant to section 1(c) of E.O. 13224 for being owned or controlled by BAZZI, Wael, an individual whose property and interests in property are blocked pursuant to E.O. 13224.

2. OFFISCOOP NV, Frankrijklei 156, 5eVerd, Antwerpen 2000, Belgium; Additional Sanctions Information—Subject to Secondary Sanctions Pursuant to the Hizballah Financial Sanctions Regulations; D-U-N-S Number 37-163-1008; Branch Unit Number 2093373727 (Belgium); Enterprise Number 0473365047 (Belgium) [SDGT] (Linked To: BAZZI, Wael).

Designated pursuant to section 1(c) of E.O.13224 for being owned or controlled by BAZZI, Wael, an individual whose property and interests in property are blocked pursuant to E.O. 13224.

3. VOLTRA TRANSCOR ENERGY BVBA (a.k.a. VOLTRA TRANSCOR ENERGY; f.k.a. “SOFTLINE”), Frankrijklei 156 (5deV), Antwerpen 2000, Belgium; Additional Sanctions Information—Subject to Secondary Sanctions Pursuant to the Hizballah Financial Sanctions Regulations; D-U-N-S Number 37-339-4675; V.A.T. Number BE0443680473 (Belgium); Branch Unit Number 2052342727 (Belgium); Enterprise Number 0443680473 (Belgium) [SDGT] (Linked To: BAZZI, Wael).

Designated pursuant to section 1(c) of E.O.13224 for being owned or controlled by BAZZI, Wael, an individual whose property and interests in property are blocked pursuant to E.O. 13224.

Additionally, on April 24, 2019, OFAC updated the listing on the Specially Designated Nationals and Blocked Persons List for the following entity, whose property and interests in property subject to U.S. jurisdiction continue to be blocked under the relevant sanctions authorities listed below.

Entity

1. GLOBAL TRADING GROUP NV (a.k.a. GLOBAL TRADING GROUP), Frankrijklei 39, 2nd Floor, Antwerpen 2000, Belgium; 22 Liverpool Street, Freetown, Sierra Leone; Standard Chartered Bank Building, 2nd floor, Kairaba Ave, Banjul, The Gambia; Rue de Canal, G83 Zone 4G, 01BP1280, Abidjan, Cote d Ivoire; Quartier les Cocotiers, Avenue Pape Jean Paul II, Lot 4274, Cotonou, Benin; website www.globaltradinggroup.com; Additional Sanctions Information—Subject to Secondary Sanctions Pursuant to the Hizballah Financial Sanctions Regulations; D-U-N-S Number 37-117-1419 [SDGT] (Linked To: BAZZI, Mohammad Ibrahim).

Designated pursuant to section 1(c) of E.O. 13224 for being owned or controlled by BAZZI, Mohammad Ibrahim, an individual determined to be subject to E.O. 13224.

The listing for this previously designated entity now appears as follows:

1. ENERGY ENGINEERS PROCUREMENT AND CONSTRUCTION (a.k.a. GLOBAL TRADING GROUP; a.k.a. GLOBAL TRADING GROUP NV; a.k.a. “EEPC”), Frankrijklei 39, 2nd Floor, Antwerpen 2000, Belgium; 22 Liverpool Street, Freetown, Sierra Leone; Standard Chartered Bank Building, 2nd floor, Kairaba Ave, Banjul, The Gambia; Rue de Canal, G83 Zone 4G, 01BP1280, Abidjan, Cote d Ivoire; Quartier les Cocotiers, Avenue Pape Jean Paul II, Lot 4274, Cotonou, Benin; Frankrijklei 156 (5th floor), Antwerpen 2000, Belgium; website www.globaltradinggroup.com; Additional Sanctions Information—Subject to Secondary Sanctions Pursuant to the Hizballah Financial Sanctions Regulations; D-U-N-S Number 37-117-1419 [SDGT] (Linked To: BAZZI, Mohammad Ibrahim).

Designated pursuant to section 1(c) of E.O. 13224 for being owned or controlled by BAZZI, Mohammad Ibrahim, an individual whose property and interests in property are blocked pursuant to E.O. 13224.

Dated: April 24, 2019.
Andrea Gacki,
Director, Office of Foreign Assets Control.

[FR Doc. 2019-10134 Filed 5-15-19; 8:45 am]

BILLING CODE 4810-AL-P